ENVIRONMENTAL PROTECTION AGENCY

[ER-FRL-6678-7]

Environmental Impacts Statements; Notice of Availability

Responsible Agency: Office of Federal Activities, General Information (202) 564-7167 or http://www.epa.gov/compliance/nepa/.

Weekly receipt of Environmental Impact Statements filed August 21, 2006 through August 25, 2006 pursuant to 40 CFR 1506.9.

EIS No. 20060352, Draft EIS, COE, CA, Berth 97-109 Container Terminal Project, Proposed New Wharves, Dredging Backlands Development , Improvements to the Terminal Entrance, and Bridges Connecting Berths 97-109 with Berths 121-131, Port of Los Angeles, Los Angeles, CA, Comment Period Ends: October 16, 2006, Contact: Dr. Aaron O. Allen 805-585-2140.

EIS No. 20060353, Final EIS, NRS, UT, Coal Creek Flood Control and Parkway Project, Proposed Channel Improvements, Two Irrigation Division Structures on Coal Creek (the Main Street Diversion and the Woodbury Diversion), Cedar City, Iron County, UT, Wait Period Ends: October 2, 2006, Contact: Marnie Wilson 801-524-4591.

EIS No. 20060354, Draft EIS, FHW, MN, Scott County State Aid Highway (CSAH) 21 Project, Extension from CSAH 42 in Prior Lake to CSAH 18 at Southbridge Parkway in Shakopee, U.S. Army COE Section 404 Permit, Scott County, MN, Comment Period Ends: October 16, 2006, Contact: Cheryl Martin 651-291-6120.

EIS No. 20060355, Draft EIS, MMS, 00, Outer Continental Shelf Oil & Gas Leasing Program: 2007-2012, Exploration and Development Offshore Marine Environment and Coastal Counties of AL, AK, DE, FL, LA, MD, MS, NJ, NC, TX and VA, Comment Period Ends: November 22, 2006, Contact: Dr. Norman Froomer 703-787-1644.

EIS No. 20060356, Draft EIS, COE, 00, Lock and Dam 3 Mississippi River Navigation Safety and Embankments, To Reduce Related Navigation Safety and Embankment Problems, Upper Mississippi River, Goodhue County, MN and Pierce County, WI, Comment Period Ends: October 16, 2006, Contact: Daniel Wilcox 651-290-5276.

EIS No. 20060357, Draft EIS, COE, CA, Hemet/San Jacinto Integrated Recharge and Recovery Program, Construction and Operation, U.S. Army COE Section 404 Permit, Riverside County, CA, Comment Period Ends: October 16, 2006, Contact: Dr. Daniel P. Swenson 213-452-3414.

EIS No. 20060358, Draft EIS, AFS, CA, Lake Davis Pike Eradication Project, To Eradicate Pike and Re-Establish Trout Fishery in the Tributaries, Special-Use-Permit, Plumas National Forest, Plumas County, CA, Comment Period Ends: October 16, 2006, Contact: Angela Dillingham 530-283-7761.

EIS No. 20060359, Draft Supplement, AFS, CA, Watdog Project, Additional Analysis to Supplement Information, Feather River Ranger District, Plumas National Forest, Butte and Plumas Counties, CA, Comment Period Ends: October 16, 2006, Contact: Susan Joyce 530-534-6500.

EIS No. 20060360, Draft EIS, AFS, WA, Gifford-Pinchot National Forest and Columbia River Gorge National Scenic Area (Washington Portion) Site-Specific Invasive Plant Treatment Project, Implementation, Skamania, Cowlitz, Lewis, Clark, Klickitat Counties, WA, Comment Period Ends: October 16, 2006, Contact: Carol A. Chandler 541-360-5100.

Amended Notices

EIS No. 20060277, Draft EIS, NNS, NM, Los Alamos National Laboratory Continued Operations, Los Alamos County, NM, Comment Period Ends: September 20, 2006, Contact: Elizabeth Wither 505-845-4984. Revision of FR Notice Published on July 7, 2006: Extended Comment Period from September 5, 2006 to September 20, 2006.

Dated: August 29, 2006.
Robert W. Hargrove,
Director, NEPA Compliance Division, Office of Federal Activities.

[FR Doc. E6-14535 Filed 8-31-06; 8:45 am]

BILLING CODE 6560-50-P